DEPARTMENT OF TRANSPORTATION

Federal Aviation Administration

14 CFR Part 95

[Docket No. 30680; Amdt. No. 482]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, August 27, 2009.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

Issued in Washington, DC, on July 24, 2009.
John M. Allen,
Director, Flight Standards Service.

List of Subjects in 14 CFR Part 95

Airspace, Navigation (air).

Adoption of the Amendment

Accordingly, pursuant to the authority delegated to me by the Administrator, part 95 of the Federal Aviation Regulations (14 CFR part 95) is amended as follows effective at 0901 UTC, August 27, 2009.

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 482 Effective Date August 27, 2009]
From | To | MEA | MAA
§ 95.4000 High Altitude RNAV Routes
§ 95.4016 RNAV Route Q16 Is Amended To Read In Part
KODIAK, AK VOR/DME #GNSS MEA | MIDDLETON ISLAND, AK VOR/DME | 18000 | 45000
Is Amended By Adding
MIDDLETON ISLAND, AK VOR/DME #GNSS MEA | YAKUTAT, AK VOR/DME | 18000 | 45000
§ 95.4041 RNAV Route Q41 Is Added To Read
*CAWIN, AK FIX | DEADHORSE, AK VOR/DME | 18000 | 45000
*12000-MRA #GNSS MEA
§ 95.4042 RNAV Route Q42 Is Added To Read
KIRKSVILLE, MO VORTAC | DANVILLE, IL VORTAC | #*34000 | 45000
*18000-GNSS MEA
#DME/DME/IRU RNAV MEA
DANVILLE, IL VORTAC | MUNCIE, IN VOR/DME | #*34000 | 45000
*18000-GNSS MEA
#DME/DME/IRU RNAV MEA
MUNCIE, IN VOR/DME | BRNAN, PA FIX | #*24000 | 45000
*18000-GNSS MEA
#DME/DME/IRU RNAV MEA
BRNAN, PA FIX | MAALS, PA FIX | #*26000 | 45000
*18000-GNSS MEA
#DME/DME/IRU RNAV MEA
MAALS, PA FIX | EAST TEXAS, PA VOR/DME | #*24000 | 45000
*18000-GNSS MEA
#DME/DME/IRU RNAV MEA
EAST TEXAS, PA VOR/DME | ELIOT, NJ FIX | #*24000 | 45000
*18000-GNSS MEA
#DME/DME/IRU RNAV MEA
§ 95.4043 RNAV Route Q43 Is Added To Read
ANCHORAGE, AK VOR/DME | FAIRBANKS, AK VORTAC | #18000 | 45000
#GNSS MEA
§ 95.4044 RNAV Route Q44 Is Added To Read
NOME, AK VOR/DME | ANCHORAGE, AK VOR/DME | #18000 | 45000
#GNSS MEA
§ 95.4045 RNAV Route Q45 Is Added To Read
DILLINGHAM, AK VOR/DME | AMOTT, AK FIX | #18000 | 45000
#GNSS MEA
§ 95.4046 RNAV Route Q46 Is Added To Read
POINT HOPE, AK NDB | BARROW, AK VOR/DME | #18000 | 45000
#GNSS MEA
§ 95.4047 RNAV Route Q47 Is Added To Read
KING SALMON, AK VORTAC | AMOTT, AK FIX | #18000 | 45000
#GNSS MEA
§ 95.4048 RNAV Route Q48 Is Added To Read
BARROW, AK VOR/DME | DEADHORSE, AK VOR/DME | #18000 | 45000
#GNSS MEA
DEADHORSE, AK VOR/DME | ROCES, AK FIX | #18000 | 45000
#GNSS MEA
§ 95.4049 RNAV Route Q49 Is Added To Read
KODIAK, AK VOR/DME | AMOTT, AK FIX | #18000 | 45000
#GNSS MEA
§ 95.4051 RNAV Route Q51 Is Added To Read
KING SALMON, AK VORTAC | KOTZEBUE, AK VOR/DME | #18000 | 45000
#GNSS MEA
§ 95.4053 RNAV Route Q53 Is Added To Read
KODIAK, AK VOR/DME | ILIAMNA, AK NDB/DME | #18000 | 45000
#GNSS MEA
ILIAMNA, AK NDB/DME | KOTZEBUE, AK VOR/DME | #18000 | 45000
#GNSS MEA
§ 95.4055 RNAV Route Q55 Is Added To Read
KODIAK, AK VOR/DME | NOME, AK VOR/DME | #18000 | 45000
#GNSS MEA
§ 95.4057 RNAV Route Q57 Is Added To Read
KING SALMON, AK VORTAC | MC GRATH, AK VORTAC | #18000 | 45000
#GNSS MEA
§ 95.4059 RNAV Route Q59 Is Amended By Adding
COLD BAY, AK VORTAC | BETHEL, AK VORTAC | #18000 | 45000
#GNSS MEA
§ 95.4061 RNAV Route Q61 Is Added To Read
FAIRBANKS, AK VORTAC | BARROW, AK VOR/DME | #18000 | 45000
#GNSS MEA
§ 95.4219 RNAV Route T219 Is Amended To Read In Part
NANWAK, AK NDB/DME | RUFVY, AK FIX | *2300 | 17500
*1700-MOCA
RUFVY, AK FIX | ACATE, AK FIX | *2000 | 17500
*1300-MOCA
ACATE, AK FIX | BROUS, AK FIX | *6000 | 17500
*5400-MOCA
BROUS, AK FIX | DILLINGHAM, AK VOR/DME | *6000 | 17500
*5000-MOCA
§ 95.4222 RNAV Route T222 Is Amended To Read In Part
MOUNT MOFFETT, AK, NDB/DME | BAERE, AK FIX | *6000 | 17500
BAERE, AK FIX | ST PAUL ISLAND, AK NDB/DME | *3600 | 17500
ST PAUL ISLAND, AK NDB/DME | RUFVY, AK FIX | *3000 | 17500
*1800-MOCA
RUFVY, AK FIX | BETHEL, AK VORTAC | *3000 | 17500
*1400-MOCA
§ 95.4223 RNAV Route T223 Is Amended To Read In Part
CAPE NEWENHAM, AK NDB/DME | DILLINGHAM, AK VOR/DME | 4400 | 17500
DILLINGHAM, AK VOR/DME | FAGIN, AK FIX | 4400 | 17500
FAGIN, AK FIX | NONDA, AK FIX | 8400 | 17500
NONDA, AK FIX | BLUGA, AK FIX | 12000 | 17500
BLUGA, AK FIX | AMOTT, AK FIX | 3000 | 17500
Is Amended To Delete
AMOTT, AK FIX | ANCHORAGE, AK VOR/DME | 2000 | 17500
§ 95.4225 RNAV Route T225 Is Amended To Read In Part
HOOPER BAY, AK VOR/DME | AKELT, AK FIX | 4600 | 17500
AKELT, AK FIX | ALMOT, AK FIX | 4400 | 17500
ALMOT, AK FIX | UNALAKLEET, AK VOR/DME | 3700 | 17500
UNALAKLEET, AK VOR/DME | EDMON, AK FIX | 5000 | 17500
EDMON, AK FIX | VENCE, AK FIX | 5900 | 17500
VENCE, AK FIX | GALENA, AK VOR/DME | 3400 | 17500
GALENA, AK VOR/DME | KUHZE, AK FIX | 3400 | 17500
KUHZE, AK FIX | CHOKK, AK FIX | 6800 | 17500
CHOKK, AK FIX | TANANA, AK VOR/DME | 4000 | 17500
TANANA, AK VOR/DME | *REEBA, AK FIX | 3600 | 17500
*7000-MRA
REEBA, AK FIX | FAIRBANKS, AK VORTAC | 4500 | 17500
§ 95.4227 RNAV Route T227 Is Amended To Read In Part
SHEMYA, AK NDB | JANNT, AK FIX | 3400 | 17500
JANNT, AK FIX | BAERE, AK FIX | 2900 | 17500
BAERE, AK FIX | ALEUT, AK FIX | 3300 | 17500
ALEUT, AK FIX | MORDI, AK FIX | 2500 | 17500
MORDI, AK FIX | BINAL, AK FIX | 4900 | 17500
BINAL, AK FIX | PORT HEIDEN, AK NDB/DME | 3800 | 17500
PORT HEIDEN, AK NDB/DME | AMOTT, AK FIX | 13000 | 17500
AMOTT, AK FIX | ANCHORAGE, AK VOR/DME | 4000 | 17500
ANCHORAGE, AK VOR/DME | FAIRBANKS, AK VORTAC | 9700 | 17500
FAIRBANKS, AK VORTAC | DEADHORSE, AK VOR/DME | 11000 | 17500
§ 95.4228 RNAV Route T228 Is Amended To Read In Part
CAPE NEWENHAM, AK NDB/DME | KUCYE, AK FIX | 4600 | 17500
KUCYE, AK FIX | RUFVY, AK FIX | 2000 | 17500
RUFVY, AK FIX | HOOPER BAY, AK VOR/DME | 3000 | 17500
§ 95.4231 RNAV Route T231 Is Amended To Read In Part
FAIRBANKS, AK VORTAC | SELAWIK, AK VOR/DME | 6300 | 17500
SELAWIK, AK VOR/DME | KOTZEBUE, AK VOR/DME | 3400 | 17500
§ 95.4231 RNAV Route T232 Is Amended To Delete In Part
OLARU, AK FIX | NORTHWAY, AK VORTAC | 6000 | 17500
5400-MOCA
§ 95.4240 RNAV Route T240 Is Amended To Delete In Part
EVANSVILLE, AK NDB | NAMRE, AK FIX | 10000 | 17500
Is Amended To Read In Part
BETTLES, AK VOR/DME | TEGDE, AK FIX | 7800 | 17500
TEGDE, AK FIX | DERIK, AK FIX | 9700 | 17500
DERIK, AK FIX | SHELO, AK FIX | 3600 | 17500
SHELO, AK FIX | DEADHORSE, AK VOR/DME | 2000 | 17500
§ 95.4246 RNAV Route T246 Is Amended By Adding
BARROW, AK VOR/DME | GALENA, AK VOR/DME | 9200 | 17500
Is Amended To Read In Part
GALENA, AK VOR/DME | MC GRATH, AK VORTAC | 5800 | 17500
MC GRATH, AK VORTAC | ANCHORAGE, AK VOR/DME | 8700 | 17500
§ 95.4248 RNAV Route T248 Is Amended By Adding
GAMBELL, AK NDB/DME | QAYAQ, AK FIX | 3600 | 17500
Is Amended To Read In Part
QAYAQ, AK FIX | EMMONAK, AK VOR/DME | 3000 | 17500
§ 95.4250 RNAV Route T250 Is Amended To Read In Part
BETHEL, AK VORTAC | AKELT, AK FIX | 3800 | 17500
AKELT, AK FIX | QAYAQ, AK FIX | 3000 | 17500
QAYAQ, AK FIX | KUKULIAK, AK VOR/DME | 3700 | 17500
§ 95.4252 RNAV Route T252 Is Amended By Adding
NOME, AK VOR/DME | KOTZEBUE, AK VOR/DME | 5900 | 17500
§ 95.4260 RNAV Route T260 Is Amended By Adding
NOME, AK VOR/DME | TIN CITY, AK NDB/DME | 6900 | 17500
Is Amended To Read In Part
TIN CITY, AK NDB/DME | COGNU, AK FIX | 5300 | 17500
COGNU, AK FIX | POINT HOPE, AK NDB | 3000 | 17500
§ 95.4269 RNAV Route T269 Is Added To Read
BETHEL, AK VORTAC | SPARREVOHN, AK VOR/DME | 6800 | 17500
SPARREVOHN, AK VOR/DME | ANCHORAGE, AK VOR/DME | 11300 | 17500
ANCHORAGE, AK VOR/DME | JOHNSTONE POINT, AK VOR/DME | 9000 | 17500
JOHNSTONE POINT, AK VOR/DME | YAKUTAT, AK VOR/DME | 5900 | 17500
YAKUTAT, AK VOR/DME | BIORKA ISLAND, AK VORTAC | 6200 | 17500
BIORKA ISLAND, AK VORTAC | ANNETTE ISLAND, AK VOR/DME | 7100 | 17500
§ 95.4273 RNAV Route T273 Is Added To Read
FAIRBANKS, AK VORTAC | ROCES, AK FIX | 12000 | 17500
§ 95.4275 RNAV Route T275 Is Added To Read
BETHEL, AK VORTAC | UNALAKLEET, AK VOR/DME | 5900 | 17500
§ 95.4277 RNAV Route T277 Is Added To Read
BETTLES, AK VOR/DME | POINT LAY, AK NDB | 10300 | 17500
§ 95.4278 RNAV Route T278 Is Added To Read
*HAPIT, AK FIX | SISTERS ISLAND, AK VORTAC | 6100 | 17500
*15000-MRA
§ 95.4279 RNAV Route T279 Is Added To Read
ALEUT, AK FIX | BETHEL, AK VORTAC | 3200 | 17500
§ 95.4280 RNAV Route T280 Is Added To Read
FLIPS, AK FIX | LEVEL ISLAND, AK VOR/DME | 7100 | 17500
§ 95.4282 RNAV Route T282 Is Added To Read
VENCE, AK FIX | HORSI, AK FIX | 5000 | 17500
HORSI, AK FIX | PERZO, AK FIX | 4700 | 17500
PERZO, AK FIX | FAIRBANKS, AK VORTAC | 4300 | 17500

From | To | MEA
§ 95.6001 Victor Routes-U.S.
§ 95.6003 VOR Federal Airway V3 Is Amended To Read In Part
HARVY, VA FIX | *NUTTS, VA FIX | **6000
*9000-MRA
**4000-GNSS MEA
*NUTTS, VA FIX | #FLAT ROCK, VA VORTAC | **6000
*9000-MRA
**4000-GNSS MEA
#R-220 UNUSABLE
§ 95.6020 VOR Federal Airway V20 Is Amended To Read In Part
RESERVE, LA VOR/DME | *SLIDD, LA FIX | 2000
*5000-MCA SLIDD, LA FIX, NE BND
SLIDD, LA FIX | GULFPORT, MS VORTAC | *5000
*2000-GNSS MEA
§ 95.6029 VOR FederaL Airway V29 Is Amended To Read In Part
#DUPONT, DE VORTAC | MODENA, PA VORTAC | *6000
*1800-MOCA
*2000-GNSS MEA
#R-358 UNUSABLE
§ 95.6051 VOR Federal Airway V51 Is Amended To Read In Part
CRAIG, FL VORTAC | #ALMA, GA VORTAC | *5000
*1700-MOCA
*4000-GNSS MEA
#R-144 NA BELOW 10000
§ 95.6086 VOR Federal Airway V86 Is Amended To Read In Part
MISSOULA, MT VOR/DME | COPPERTOWN, MT VOR/DME | *13000
*11300-MOCA
*12000-GNSS MEA
*PACTO, SD FIX | RAPID CITY, SD VORTAC
E BND |  | **8000
W BND |  | **9700
*9700-MRA
**7100-MOCA
§ 95.6106 VOR Federal Airway V106 Is Amended To Read In Part
JOHNSTOWN, PA VORTAC | HUDON, PA FIX | *5000
*4500-MOCA
HUDON, PA FIX | RASHE, PA FIX | *7000
*4000-MOCA
*4000-GNSS MEA
RASHE, PA FIX | SELINSGROVE, PA VORTAC | *14000
*4000-GNSS MEA
§ 95.6114 VOR Federal Airway V114 Is Amended To Read In Part
RESERVE, LA VOR/DME | *SLIDD, LA FIX | 2000
*5000-MCA SLIDD, LA FIX, NE BND
SLIDD, LA FIX | GULFPORT, MS VORTAC | *5000
*2000-GNSS MEA
GULFPORT, MS VORTAC | EATON, MS VORTAC | *6000
*2000-GNSS MEA
§ 95.6168 VOR Federal Airway V168 Is Amended To Read In Part
MILER, AL FIX | EFORD, AL FIX | *3000
*2400-MOCA
*3000-GNSS MEA
EFORD, AL FIX | #WIREGRASS, AL VORTAC | 2400
#R-360 UNUSABLE BEYOND EFORD
§ 95.6170 VOR Federal Airway V170 Is Amended To Read In Part
MODENA, PA VORTAC | #DUPONT, DE VORTAC | *6000
*1800-MOCA
*2000-GNSS MEA
# R-358 UNUSABLE
§ 95.6259 VOR Federal Airway V259 Is Amended To Read In Part
*KOOKE, SC FIX | **CLETA, SC FIX | 2000
*3000-MRA
**3000-MRA
*CLETA, SC FIX | FLORENCE, SC VORTAC | 2000
*3000-MRA
§ 95.6269 VOR Federal Airway V269 Is Amended To Read In Part
HOVEL, ID FIX | FONNA, OR FIX | *12000
*8700-MOCA
*9000-GNSS MEA
MANTE, OR FIX | MOBIL, OR FIX | *10000
*7600-MOCA
*8000-GNSS MEA
§ 95.6292 VOR Federal Airway V292 Is Amended To Read In Part
*WIGAN, NY FIX | #BARNES, MA VORTAC | **10000
*4500-MRA
**4900-MOCA
**5000-GNSS MEA
#R-279 UNUSABLE.
§ 95.6514 VOR Federal Airway V514 Is Amended To Read In Part
*TWENTYNINE PALMS, CA VORTAC | GOFFS, CA VORTAC | **12000
*10200-MCA TWENTYNINE PALMS, CA VORTAC, NE BND
**7900-MOCA
**8000-GNSS MEA
§ 95.6528 VOR Federal Airway V528 Is Amended To Read In Part
*PHOENIX, AZ VORTAC | EAGUL, AZ FIX | **14500
*8000-MCA PHOENIX, AZ VORTAC, NE BND
**9400-MOCA
**10000-GNSS MEA
§ 95.6538 VOR Federal Airway V538 Is Amended To Read In Part
*TWENTYNINE PALMS, CA VORTAC | GOFFS, CA VORTAC | **12000
*10200-MCA TWENTYNINE PALMS, CA VORTAC, NE BND
**7900-MOCA
**8000-GNSS MEA
§ 95.6480 Alaska VOR Federal Airway V480 Is Amended To Read In Part
MOUNT MOFFETT, AK NDB/DME | ST PAUL ISLAND, AK NDB/DME | 6000 MAA-17500
ZESKA, AK FIX | BETHEL, AK VORTAC
| SW BND | *10000
| NE BND | *2000
*1400-MOCA

From | To | MEA | MAA
§ 95.7001 Jet Routes
§ 95.7051 JET Route J51 Is Amended To Read In Part
TUBAS, NC FIX | #FLAT ROCK, VA VORTAC | *26000 | 45000
*18000-GNSS MEA
#R-218 UNUSABLE
§ 95.7091 Jet Route J9 1Is Amended To Read In Part
CROSS CITY, FL VORTAC | #ATLANTA, GA VORTAC | 24000 | 45000
#R-169 DME UNUSABLE

Airway Segment | Changeover Points: From | Changeover Points: To | Changeover Points: Distance | Changeover Points: From
§ 95.8003 VOR Federal Airway Changeover Points Is Amended To Add Changeover Point Alaska V480
ST PAUL ISLAND, AK NDB/DME | BETHEL, AK VORTAC | 223 | *ST PAUL ISLAND.
Is Amended To Delete Changeover Point
ST PAUL ISLAND, AK NDB/DME | KIPNUKL, AK VORTAC | 197 | ST PAUL ISLAND.

[FR Doc. E9-18851 Filed 8-11-09; 8:45 am]

BILLING CODE 4910-13-P